DEPARTMENT OF STATE

[Public Notice 6158]

Bureau of Educational and Cultural Affairs (ECA) Request for Grant Proposals (RFGP): Congressionally Mandated—One-time Grants Program—Competition B—Professional, Cultural, and Youth One-time Grants Program

Announcement Type: New Grant.

Funding Opportunity Number: ECA/PE/C-08-One-time-Comp.B

Catalog of Federal Domestic Assistance Number: 00.000

Key Dates:

Application Deadline: April 24, 2008.

Executive Summary: This competition is one of two competitions that the Bureau of Educational and Cultural Affairs is conducting as directed in the Department of State, Foreign Operations, and Related Programs Appropriations Act, 2008 (Div J, Pub. L. 100-161) under “Educational and Cultural Exchange Programs” in support of a $10 million “competitive one-time grants program.” All applications must be submitted by, public or private non-profit organizations, meeting the provisions described in Internal Revenue code section 26 U.S.C. 501(c)(3). Total funding for this “one-time grants program” is $10 million dollars. Five million dollars will be dedicated to this competition, (Competition B—Professional, Cultural and Youth One-time Grants Program-reference number ECA/PE/C-08-One-time-Comp.B), and $5 million will be dedicated to and announced simultaneously in a separate RFGP, (Competition A—Academic Programs One-time Grants Program—reference number ECA/A-08-One-time-Comp.A).

Please note: The Bureau reserves the right to reallocate funds it has initially allocated to each of these two competitions, based upon factors such as the number of applications received and responsiveness to the review criteria outlined in each of the solicitations.

Applicants may only submit ONE proposal (TOTAL) to ONE of the two competitions referenced above. In addition, applicants under this competition (ECA/PE/C-08-One-time-Comp.B) may only apply to administer one of the listed activities (total). If multiple proposals are received from the same applicant, all submissions will be declared technically ineligible and will be given no further consideration in the review process. Eligible applicants are strongly encouraged to read both RFGPs thoroughly, prior to developing and submitting proposals, to ensure that proposed activities are appropriate and responsive to the goals, objectives and criteria outlined in each of the solicitations.

As further directed by the Congress, “The program shall be only for the actual exchange of people and should benefit a population that is not being addressed through existing authorized exchanges.”

The Bureau of Educational and Cultural Affairs announces a competition for grants that support international exchanges in order to increase mutual understanding and build relationships, through individuals and organizations, between the people of the United States and their counterparts in other countries. The Bureau welcomes proposals from organizations that have not had a previous grant from the Bureau as well as from those which have; see eligibility information below and in section III.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through legislation.

Background: The Department of State, Foreign Operations, and Related Programs Appropriations Act, 2008 (Div. J, Pub. L. 100-161) under “Educational and Cultural Exchange Programs” includes $10 million “for a competitive one-time grants program similar to proposals by both the House and Senate. In developing this competitive grants program, the Department of State is to be guided by criteria outlined in both the House Report 110-197 and Senate Report 110-128, including the directive to consult with the Appropriations Committees, prior to submission of a program plan.”

ECA anticipates awarding approximately 20-25 grants under this Competition B—Professional, Cultural, and Youth One-Time Grants Program.

Purpose: In this competition, ECA seeks grant proposals that support two-way exchanges for one of the following three different groups: Emerging Youth Leaders, Emerging Young Professionals, and Emerging Cultural Leaders. Program development should begin by September 2008, with most exchange activities scheduled to take place in calendar year 2009, and continuing into 2010. These projects should be completed in less than two years.

Emerging Youth Leaders

Program Contact: Carolyn Lantz, tel: 202-203-7505, e-mail LantzCS@state.gov.

The Emerging Youth Leaders program provides opportunities for high school students (ages 15-17) and educators in the United States and in multiple countries around the world to participate in two-way exchanges, each three to four weeks in duration. Each project explores a particular theme designed to develop critical leadership skills for aspiring young leaders and will encourage respect for diversity, develop reconciliation and conflict management skills, and promote critical thinking. An essential element of all projects will be to build mutual understanding and respect among the people of the United States and the people of the exchange partner countries.

The overarching goals are:

1. To develop a sense of civic responsibility and commitment to our local and global communities;

2. To promote mutual understanding between the United States and the people of other countries around topics of common interest; and

3. To foster personal and institutional ties between participants and partner countries.

A successful project will be one that nurtures a cadre of students and educators to be actively engaged in addressing issues of concern in their schools and communities upon their return home. Project activities will equip youth with the knowledge, skills, and confidence to become citizen activists and ethical leaders. Participants will be engaged in a variety of activities such as workshops, community and/or school-based programs, seminars, and other activities that are designed to achieve the program's stated goals. Multiple opportunities for participants to interact with youth and educators in the host country must be included.

Grant recipients will recruit and select the participants in the United States, as well as in the partner country(ies) through close consultation with the relevant U.S. Embassies; organize all exchange activities in the participating countries; and implement follow-on activities in which participants may apply at home what they have learned during the exchange.

Applicants should select one of the four themes below. The projects will provide guidance and training that help the youth participants develop leadership skills, such as influential public speaking, team-building, and goal-setting, so that they are prepared to take action with what they have learned. They will also learn the tools of persuasion, negotiation, and mediation to effectively manage relationships and messages in a positive manner. The exchange activities will also examine diversity issues and how young people can develop skills in critical thinking and techniques in reconciliation and conflict management.

Themes:

Participants will develop these skills by undertaking projects that focus on one of the following specific themes:

(1) Media technology and media literacy:

Projects will review the new technologies, such as weblogs, online videos, and social networking sites that enable people around the world to share information with each other. The projects will also address the challenges that both old and new media present to effective cross-cultural communication, and will provide training on how to analyze the messages of mass media and individual voices for accuracy or bias. Participants will learn how to use technology and media to effect positive change in their communities.

(2) Cultural leadership:

Through these projects, participants will examine how historical and cultural sites in their communities reflect their identity, traditions, society, religion, values, and patterns of behavior. They will participate in workshops and seminars to see how cultural heritage sites can contribute to economic development through tourism and urban renewal, and demonstrate respect for diverse cultural identities. The project will include a community service activity related to preservation of historic treasures and interpreting their importance for contemporary residents and visitors.

(3) Environmental issues:

Projects will focus on a shared environmental interest of the participating countries (e.g., use of natural resources, pollution, sustainable energy). Participants will complete projects that illustrate the issue through hands-on activities and community service. These projects will also include a review of the impact of public interest and government policies on the issue, as well as a comprehensive discussion of proposed solutions.

(4) Business and entrepreneurial skills:

These projects will offer intensive study of applied economics, practical business skills, entrepreneurship, and related ethics and leadership education. Participants will gain an understanding of how a business plan can enable them to make an idea reality, and how good business practices are not only ethically right but also lead to prosperity through the development of consumer trust, loyalty, and accountability.

Proposed Partner Countries and Regions:

ECA will accept proposals for either single-country or multi-country projects. We are particularly interested in receiving proposals for projects with the countries listed below. Proposals that target these countries will be considered more competitive under the review criterion, “Quality of the program idea and program planning.” A single-country project is a two-way exchange between the United States and a single partner country. With a multi-country project, participants from the partner countries should travel to the United States together; the American participants' exchange travel may be to just one or to all of the partner countries, depending on the applicant organization's program design and objectives. Applicants should present a rationale for their approach. No guarantee is made or implied that grants will be awarded in all themes and for all countries listed. Organizations should consider current U.S. Department of State travel advisories when selecting the countries with which they would like to work.

Central and South America: Single country projects, excluding Bolivia, Ecuador, Nicaragua, Peru, and Venezuela, where the Bureau already has youth exchange programs underway. Proposals that outline a merit-based selection process designed to ensure the participation of diverse populations—including marginalized youth—will be considered more competitive under the review criterion, “Support of diversity.”

Europe and Eurasia:

Ireland—Single country projects.

The Balkans—Single country projects.

Turkey/Greece/Cyprus—Multi-country projects for all three countries together.

Armenia/Azerbaijan—Two-country projects.

Minorities in Western and Central Europe—Multi-country projects.

Africa:

Rwanda—Single country projects.

Trans-Sahara/West Africa—Multi-country projects.

South and Central Asia:

India/Pakistan—U.S. participants travel to India for reciprocal exchange component.

Central Asia—Multi-country projects, excluding Uzbekistan.

Middle East/North Africa:

Israel/Arab World—Multi-country projects with Israel and two-four Arab countries (which may include the Palestinian Authority).

Multi-Regional:

France and Canada—Multi-country projects with these countries.

U.S. applicants must have the necessary capacity in the partner country through their own offices or a partner institution. The requisite capacity overseas includes the ability to organize substantive exchange activities for the American participants, provide follow-on activities, and handle the logistical and financial arrangements.

Applicants should propose the time period of the two exchanges, but the exact timing of the project may be altered through the mutual agreement of the Department of State and the grant recipient. The program should be no less than three weeks and up to four weeks in duration.

These two-way exchanges should involve the same communities in each country, as the second reciprocal exchange will help reinforce the relationships and program content developed during the first exchange. Project staff should help facilitate regular program-oriented communication among the exchange participants between the two exchanges.

The exchange participants will be high school students between the ages of 15 and 17 who have demonstrated leadership abilities in their schools and/or communities, and have at least one year of high school remaining after the competition of the exchange. The adult participants will be high school teachers or community leaders who work with youth. They will have a demonstrated interest in youth leadership and will be expected to remain in positions where they can continue to work with youth. The ratio of youth to adults should be between 5:1 and 10:1. Participants will be proficient in the English language.

Emerging Young Professionals

Program Contact: Curtis Huff, tel: 202-453-8159, e-mail: HuffCE@state.gov.

The Emerging Young Professionals program offers opportunities for young adults (approximately 22-35 years old) to participate in two-way exchanges of approximately three to four weeks or more in duration to develop their leadership skills and to increase mutual understanding between their countries and the United States. ECA is especially interested in engaging marginalized populations and women from both the U.S. and partner countries in the exchanges. Exchange projects should build participants' leadership skills, including how to conceptualize and develop projects to reach diverse citizenry, using clear objectives, solid management structures and evaluation feedback mechanisms for projects at the local level. Participants should be community leaders, political leaders, educators, and/or advocates for youth, or persons who show the capacity to become effective in those roles.

Projects should be two-way in purpose and implementation, with approximately equal numbers of participants traveling to and from the United States for approximately equal periods of time. Consistent with this approach, project plans should promote learning and teaching for participants from all countries in the project to promote mutual understanding and build individual and institutional partnerships that are likely to continue beyond the grant project. Proposals that clearly delineate salient objectives in measurable terms and plan activities in a sequence that will progressively lead to achieving those objectives, will be considered more competitive under the review criterion, “Ability to achieve program objectives.”

Projects should be planned around one of the following themes:

(1) Media technology and media literacy: These projects should introduce participants to new technologies, such as weblogs, online videos, and social networking sites that enable people around the world to share information with each other. The projects should also address the challenges that both old and new media present to effective cross-cultural communication, and should provide training on how to analyze the messages of mass media and individual voices for accuracy or bias. Participants will learn how to use media to effect positive change in their communities.

(2) Reconciliation and conflict management: These projects should allow participants to experience creative approaches to managing conflict and promoting tolerance and diversity. These projects may offer descriptive learning opportunities, but they must include hands-on experiential learning opportunities, as well. Participants should practice different methods and observe professional practitioners.

(3) Community service: These projects should introduce participants to volunteerism and the ways in which different NGOs and charities give service to their communities. They should learn how the needs of a community are identified, how service organizations find their niches, how service projects are funded, and how they are organized.

(4) Cultural diversity: These projects should introduce participants to each other's cultural backgrounds that form the basis of individual and group identity, and engage them in learning how differences in culture can be turned into respect for diversity and tolerance in communities. When possible, participants should interact with diverse communities in the United States and in the partner country, to develop a joint volunteer project.

(5) Environmental issues: These projects should focus on a shared environmental issue of the participating countries (e.g., use of natural resources, pollution, sustainable energy, recycling). Participants should jointly examine a problem or group of issues, through study of public interest and government policy statements, and then participate in experiential learning exercises to build mutual approaches to the issue, and develop their own recommendations for addressing it.

(6) Entrepreneurial and business management skills: These projects should introduce participants to the identification of business opportunities, the writing of business plans, the calculation of risks, and the management of new businesses in order to maximize the probability of success.

Proposed Partner Countries and Regions:

ECA will consider proposals for either single-country or multi-country projects. We are particularly interested in receiving proposals for projects with the countries listed below. Proposals that target these countries will be considered more competitive under the review criterion “Quality of the program idea and program planning.” A single-country project is a two-way exchange between the United States and a single partner country. A multi-country project involves participants from more than one country coming to the United States together, and American participants traveling to those countries. The Bureau prefers projects that will engage both Americans and international participants deeply enough that relationships will continue beyond the grant-funded activities. Competitive proposals will be those that demonstrate why any country or group of countries has been identified for a specific project and outline why the specific group of participants to be selected from that country / countries is the most effective group to achieve project objectives. Projects proposed under theme (2)—reconciliation and conflict management—must involve at least two countries that are currently in conflict (e.g., Ireland and Northern Ireland, Armenia and Azerbaijan, etc.) No guarantee is made or implied that grants will be awarded in all themes and for all countries listed. Organizations should consider current U.S. Department of State travel advisories when selecting the countries with which they would like to work.

Europe: Ireland; the Balkans; Turkey/Greece/Cyprus; the Caucasus.

Middle East/North Africa: Israel and two-four Arab countries (which may include the Palestinian Authority).

Africa (Trans-Sahara): Algeria, Mali, Mauritania, Morocco, Niger, Nigeria, Senegal, Sudan, Tunisia.

East Asia/Pacific: Philippines, Thailand.

Emerging Cultural Leaders

Program Contact: Makaria Green, tel: 202-203-7518, e-mail: GreenMN@state.gov.

The Emerging Cultural Leaders program provides opportunities for aspiring artists (ages 25-35) and their mentors/teachers in the United States and in multiple countries around the world to participate in two-way exchanges, each three to four weeks in duration. Each project will explore a particular theme designed to influence the way young people view their own identity and how they express that identity through their artistic medium. Projects should focus on aspiring artists from under-served populations with limited exposure to foreign artists. Such projects should compare American approaches to an art form—performing, visual, literary—with those of a different cultural heritage, and draw from that comparison a better understanding of, and respect for, cultural diversity. Projects should include hands-on artistic creation as well as contextual learning. They must include physical exchanges of teachers and aspiring artists, and may also include distance or networked projects. An essential element of all projects will be to build mutual understanding and respect among the people of the United States and the people of the exchange partner countries.

The overarching goals are:

1. To articulate identity through artistic expression, gain respect for the identity and artistic expression of another culture;

2. To incorporate cultural awareness and respect in demonstration of leadership;

3. To foster continuing personal and institutional ties between participants and partner countries.

A successful project will equip participating artists and teachers with the understanding and leadership skills to be actively engaged in addressing issues of concern to their communities when they return home. During their exchange experience, participants should engage in a variety of activities such as workshops, community- and/or learning-based programs, seminars, and other activities designed to achieve the program's stated goals. We encourage exchange projects that require collaborative work across cultures, and that include a public presentation.

U.S. applicant organizations must have the necessary capacity in the partner country through their own overseas offices or a partner institution to carry out the project. The requisite capacity includes the ability to recruit and select participants in both the United States and the partner countries in close consultation with the relevant U.S. Embassies; organize substantive exchange activities in the participating countries; handle the logistical and financial arrangements; and implement follow-on alumni activities in which participants may locally apply what they learned during the exchange. While Bureau funds may be used to support public programming, long-standing ECA practice is that Bureau funds are not to be used for the public presentation of art works in the United States, including such costs as shipping, framing, installation, gallery rental, or security. Cost sharing provided by the grantee organization may be used for presentation costs in the United States and should be noted in the budget.

Proposals must describe a selection process for American and international participants and demonstrate how the participant group represents an under-served community. For example, an under-served community could be economically disadvantaged, geographically isolated or experience low literacy rates. Selected participants should demonstrate a commitment to leadership in their communities. If participants are not fluent in English, proposals should include provision for interpretation as necessary.

Applicants should identify which artistic fields will be included in the exchange and demonstrate how each part of the two-way exchange will accomplish the over-arching goals of this competition. Proposals might focus exclusively on an exchange in one field, such as dance. Alternatively, a more community based project could include artists from various artistic fields, as a well as a representative of a community arts organization. All projects must include an examination of cultural diversity and the arts as a means of community engagement, and educational outreach.

Proposed Partner Countries

ECA will accept proposals for either single-country or multi-country projects. We are particularly interested in receiving proposals for projects with the countries listed below. Proposals that target these countries will be considered more competitive under the review criterion, “Quality of the program idea and program planning.” A single-country project is a two-way exchange between the United States and a single partner country. With a multi-country project, participants from the partner countries should travel to the United States together; the American participants' exchange travel may be to just one or to all of the partner countries, depending on the applicant organization's program design and objectives. Applicants should present a rationale for their approach. No guarantee is made or implied that grants will be awarded in all themes and for all countries listed. Organizations should consider current U.S. Department of State travel advisories when selecting the countries with which they would like to work.

East Asia and the Pacific:

• China (for minority communities in Western China).

• China (cross straits).

Western Hemisphere:

• Brazil, Guatemala, Honduras, Mexico, Paraguay.

Applicants should propose the period of the two exchange components and explain how together the exchange in each direction will accomplish project objectives. The exact timing of the project may be altered through the mutual agreement of the Department of State and the grant recipient. Each exchange component should be no less than three weeks and up to four weeks in duration. Program development should begin in late summer 2008. Applicants are encouraged to include letters of support in their proposals.

II. Award Information:

Type of Award: Grant Agreement.

Fiscal Year Funds: FY-2008.

Approximate Total Funding: $5 million.

Approximate Number of Awards: 20-25.

Approximate Average Award: $250,000.

Floor of Award Range: Depending upon an organization's length of experience in conducting international exchanges, grants could be awarded for less than $60,000. See section III.3.a., below.

Ceiling of Award Range: $500,000

Anticipated Award Date: August 2008.

Anticipated Project Completion Date: No later than approximately 24 months after the start date of the grant.

Additional Information: As stipulated in the legislation, this is a competitive one-time grants program.

III. Eligibility Information

III.1. Eligible Applicants

Applications must be submitted by public and private non-profit organizations meeting the provisions described in Internal Revenue Code section 26 U.S.C. 501(c)(3).

Organizations listed in the Department of State, Foreign Operations, and Related Programs Appropriation Act, 2008 (Division J, Pub.L. 100-161) under “Educational and Cultural Exchange Programs—a competitive one-time grants program” are encouraged to apply.

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Grants awarded to eligible organizations with less than four years of experience in conducting international exchange programs will be limited to $60,000. Therefore, applicants should explain their experience in conducting international exchanges, and, if that experience is less than four years, should limit their proposed grant budgets to $60,000.

As directed by the Congress, “The program shall be only for the actual exchange of people and should benefit a population that is not being addressed through existing authorized exchanges.”

(b.) Technical Eligibility: All proposals must comply with the following:

Eligible applicants may only submit ONE proposal (TOTAL) for ONE of the two competitions referenced in the Executive Summary Section of this document. If multiple proposals are received, from the same applicant, all submissions will be declared technically ineligible and will be given no further consideration in the review process. In addition, applicants under this competition (ECA/PE/C-08-One-time-Comp.B) may only apply to administer one of the listed activities (total).

- Proposals requesting funding for infrastructure development activities, sometimes referred to as “bricks and mortar support” are not eligible for consideration under this competition and will be declared technically ineligible and will receive no further consideration in the review process.

- The Bureau does not support proposals limited to conferences or seminars (i.e., one to fourteen day programs with plenary sessions, main speakers, panels, and a passive audience). It will support conferences only when they are a small part of a larger project in duration that is receiving Bureau funding from this competition.

- No funding is available exclusively to send U.S. citizens to conferences or conference type seminars overseas; nor is funding available for bringing foreign nationals to conferences or to routine professional association meetings in the United States.

Please refer to the Proposal Submission Instruction (PSI) document for additional requirements.

IV. Application and Submission Information

Note: Please read the complete Federal Register announcement before sending inquiries or submitting proposals. Once the RFGP deadline has passed, Bureau staff may not discuss this competition with applicants until the proposal review process has been completed.

IV.1 Contact Information to Request an Application Package

Please contact the Office of Citizen Exchanges, ECA/PE/C, Room 220, U.S. Department of State, SA-44, 301 4th Street, SW., Washington, DC 20547, tel 202-453-8176, fax 202-453-8169, RossAR@state.gov. to request a Solicitation Package. Please refer to the Funding Opportunity Number ECA/PE/C-08-One-time-Comp.B located at the top of this announcement when making your request.

The Solicitation Package contains the Proposal Submission Instructions (PSI) document which consists of required application forms, and standard guidelines for proposal preparation.

It also contains the Project Objectives, Goals and Implementation (POGI) document, which provides specific information, award criteria and budget instructions tailored to this competition.

Please specify Program Coordinator Alice Ross, and refer to the Funding Opportunity Number ECA/PE/C-08-One-time-Comp.B located at the top of this announcement on all other inquiries and correspondence.

IV.2. To Download a Solicitation Package Via Internet

The entire Solicitation Package may be downloaded from the Bureau's Web site at: http://exchanges.state.gov/education/rfgps/menu.htm. Please read all information before downloading.

IV.3. Content and Form of Submission

Applicants must follow all instructions in the Solicitation Package. The original and seven copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program. A copy of the complete regulations governing the administration of Exchange Visitor (J) programs is available at: http://exchanges.state.gov or from: United States Department of State, Office of Exchange Coordination and Designation ECA/EC/ECD—SA-44, Room 734, 301 Fourth Street, SW., Washington, DC 20547; Telephone: (202) 401-9810; Fax: (202) 401-9809.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other instrument plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of impact):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following:

(1) Travel. International and domestic airfare; visas; transit costs; ground transportation costs. Please note that all air travel must be in compliance with the Fly America Act. There is no charge for J-1 visas for participants in Bureau-sponsored programs.

(2) Per Diem. For U.S.-based programming, organizations should use the published Federal per diem rates for individual U.S. cities. Domestic per diem rates may be accessed at: http://www.gsa.gov/Portal/gsa/ep/contentView.do?contentId=17943&contentType=GSA_BASIC.

(3) Please refer to the Solicitation Package for complete budget guidelines and formatting instructions.

IV.3f. Submission Dates and Times

Application Deadline Date: April 24, 2008.

Methods of Submission: Applications may be submitted in one of two ways:

(1) In hard copy, via nationally recognized overnight delivery service (e.g., DHL, Federal Express, UPS, Airborne Express, or U.S. Postal Service Express Overnight Mail, etc.), or

(2) Electronically through http://www.grants.gov.

IV.3f.1. Submitting Printed, Hard Copy Applications Explanation of Deadlines:

The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered.

Applicants must follow all instructions in the Solicitation Package.

Important note: When preparing your submission please make sure to include one extra copy of the completed SF-424 form and place it in an envelope addressed to “ECA/EX/PM”.

The original and eight copies of the application should be sent to: U.S. Department of State, SA-44, Bureau of Educational and Cultural Affairs, Ref.: ECA/PE/C-08-One-time-Comp.B, Program Management, ECA/EX/PM, Room 534, 301 Fourth Street, SW., Washington, DC 20547.

Along with the Project Title, all applicants must enter the above Reference Number in Box 11 on the SF-424 contained in the mandatory Proposal Submission Instructions (PSI) of the solicitation document.

IV.3f.2 Submitting Electronic Applications

Applicants have the option of submitting proposals electronically through Grants.gov (http://www.grants.gov). Complete solicitation packages are available at Grants.gov in the “Find” portion of the system. Please follow the instructions available in the ``Get Started'' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to:

Grants.gov Customer Support.

Contact Center Phone: 800-518-4726.

Business Hours: Monday-Friday, 7 a.m.-9 p.m. Eastern Time. E-mail: support@grants.gov.

Applicants have until midnight (12 a.m.), Washington, DC, time of the closing date to ensure that their entire application has been uploaded to the Grants.gov site. There are no exceptions to the above deadline. Applications uploaded to the site after midnight of the application deadline date will be automatically rejected by the grants.gov system, and will be technically ineligible. Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

Applicants must also submit the “Executive Summary” and “Proposal Narrative” sections of the proposal the Executive Summary, Proposal Narrative, and Budget sections of the proposal, as well as any essential attachments, in Microsoft Word and/or Excel on a PC-formatted disk. The Bureau will provide these files electronically to the appropriate Public Affairs Sections at the U.S. Embassies for their review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below.

1. Quality of the program idea and program planning: Objectives should be reasonable, feasible, and flexible. The proposal should clearly demonstrate how the institution will meet the program's objectives and plan. The proposed program should be creative and well developed, respond to the design outlined in the solicitation, and demonstrate originality. It should be clearly and accurately written, substantive, and with sufficient detail. The program plan should adhere to the program overview and guidelines described above.

2. Ability to achieve program objectives: Objectives should be reasonable, feasible, and flexible. Proposals should clearly demonstrate how the institution will meet the program's objectives and plan.

3. Support of diversity: The proposal should demonstrate the recipient's commitment to promoting the awareness and understanding of diversity in participant selection and exchange program design and content.

4. Institutional capacity and track record: Proposed personnel and institutional resources should be adequate and appropriate to achieve the program goals. The proposal should demonstrate an institutional record, including solid programming and responsible fiscal management. The Bureau will consider the past performance, including compliance with all reporting requirements for past Bureau grants.

5. Program evaluation: The proposal should include a plan to evaluate the program's success, both as the activities unfold and at the end of the program. The proposal should include a draft survey questionnaire or other technique plus description of a methodology to use to link outcomes to original project objectives. Please see section IV.3d.3. of this announcement for more information.

6. Cost-effectiveness and cost-sharing: The applicant should demonstrate efficient use of Bureau funds. The overhead and administrative components of the proposal, including salaries and honoraria, should be kept as low as possible. All other items should be necessary and appropriate. The proposal should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original grant proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. The following additional requirements apply:

For exchanges involving the Palestinian Authority, West Bank, and Gaza:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Curt Huff (tel. 202-453-8159; e-mail: HuffCE@state.gov) for additional information.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://fa.statebuy.state.gov.

VI.3. Reporting Requirements

You must provide ECA with a hard copy original plus one copy of the following reports:

1.) A final program and financial report no more than 90 days after the expiration of the award;

2.) Interim program and financial reports after each program phase, as required in the Bureau grant agreement.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, please contact:

Emerging Youth Leaders, Carolyn Lantz, Youth Programs Division, Tel: (202) 203-7505; E-mail: LantzCS@state.gov.

Emerging Young Professionals, Curtis Huff, Professional Programs, Tel: (202) 453-8159; E-mail: HuffCE@state.gov.

Emerging Cultural Leaders, Makaria Green, Cultural Programs Division, Tel: (202) 203-7518, E-mail: GreenMN@state.gov.

All correspondence with the Bureau concerning this RFGP should reference the above title and number ECA/PE/C-08-One-time-Comp.B.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 19, 2008.
C. Miller Crouch,
Acting Assistant Secretary, Bureau of Educational and Cultural Affairs, Department of State.

[FR Doc. E8-6280 Filed 3-26-08; 8:45 am]

BILLING CODE 4710-05-P